DEPARTMENT OF ENERGY

Extension of Scoping Period and Rescheduled Scoping Meetings for the Notice of Intent To Prepare the Tank Closure and Waste Management Environmental Impact Statement for the Hanford Site, Richland, WA

AGENCY: Department of Energy.

ACTION: Notice.

SUMMARY: The U.S. Department of Energy (DOE) is extending the scoping period for the Tank Closure and Waste Management Environmental Impact Statement for the Hanford Site, Richland, Washington (TC & WM EIS) and rescheduling the public scoping meetings.

DATES: The scoping period for the TC & WM EIS is extended from March 6, 2006, through April 10, 2006. The scoping meetings have been rescheduled as follows. Registration for the meetings will begin at 6 p.m. There will be an opportunity for informal discussions with DOE project personnel and staff from the Washington Department of Ecology (Ecology), followed by brief presentations by DOE and Ecology at 7 p.m. After the presentations, meeting participants will be invited to provide their comments on the scope of the EIS. The meetings are scheduled to end at 10 p.m.

Seattle, Washington; March 21, 2006. Seattle Center, 305 Harrison Street, Northwest Rooms Building, Lopez Room, Seattle, WA 98109.

Portland, Oregon; March 22, 2006. Red Lion Portland—Convention Center, 1021 NE Grand Avenue, Marquam/Fremont/Broadway Room, Portland, OR 97232.

Hood River, Oregon; March 23, 2006. Columbia Gorge Hotel, 4000 Westcliff Drive, Benson Ballroom, Hood River, OR 97031.

Tri-Cities (Richland, Kennewick, Pasco) Washington, March 28, 2006. Trade Recreation and Agricultural Center (TRAC), 6600 Burden Blvd., Meeting Room #4, Pasco, WA 99302.

ADDRESSES: To request information on the TC & WM EIS or to submit comments on the scope of this EIS contact: Mary Beth Burandt, Document Manager, Office of River Protection, U.S. Department of Energy, Post Office Box 450, Mail Stop H6-60, Richland, WA 99352, Electronic mail: TC&WMEIS@saic.com. Fax: 509-376-3661, Telephone and voice mail: 509-373-9160.

FOR FURTHER INFORMATION CONTACT: For information on DOE's NEPA process, contact: Carol Borgstrom, Director, Office of NEPA Policy and Compliance (EH-42), U.S. Department of Energy, 1000 Independence Avenue, SW., Washington, DC 20585, Telephone 202-586-4600, or leave a message at 1-800-472-2756.

SUPPLEMENTARY INFORMATION: On February 2, 2006, DOE issued a Notice of Intent to prepare the TC & WM EIS for the Hanford Site, Richland, Washington (71 FR 5655). The original scoping period was to continue through March 6, 2006, and four scoping meetings were scheduled for Hood River and Portland, OR and for Seattle and Richland WA on February 21, 22, 23 and 28 respectively. In response to requests from the public, DOE is extending the scoping period through April 10, 2006, and the four scoping meetings have been rescheduled as listed in DATES above.

Issued in Washington, DC, on February 15, 2006.
John Spitaleri Shaw,
Assistant Secretary for Environment, Safety and Health.

[FR Doc. 06-1562 Filed 2-15-06; 1:17 pm]

BILLING CODE 6450-01-P